DEPARTMENT OF TRANSPORTATION

Federal Aviation Administration

14 CFR Part 39

[Docket No. FAA-2009-0301; Directorate Identifier 2008-SW-69-AD; Amendment 39-15876; AD 2009-08-03]

RIN 2120-AA64

Airworthiness Directives; Bell Helicopter Textron Canada Limited Model 206A, 206B, 206L, 206L-1, 206L-3, 206L-4, 222, 222B, 222U, 230, 407, 427, and 430 Helicopters

AGENCY: Federal Aviation Administration (FAA), Department of Transportation (DOT).

ACTION: Final rule; request for comments.

SUMMARY: We are adopting a superseding airworthiness directive (AD) for the specified Bell Helicopter Textron Canada Limited (BHTC) Model 206A, 206B, 206L, 206L-1, 206L-3, 206L-4, 222, 222B, 222U, 230, 407, 427, and 430 helicopters. That AD currently requires replacing each affected tail rotor blade (blade) with an airworthy blade that has a serial number not listed in the Rotor Blades, Inc. (RBI) document that is attached to each of the Bell Helicopter Textron Alert Service Bulletins (ASBs) listed in the applicability section of the AD. That AD results from mandatory continuing airworthiness information (MCAI) issued by the aviation authority of Canada. The MCAI states that there have been three reports of blade tip weights departing from the blade during flight. Since issuing that AD, BHTC has issued revised service information to correct part numbers and serial numbers listed in the RBI document that is attached to each BHTC ASB and to add additional part-numbered and serial-numbered blades to the list. The actions of this AD are intended to prevent loss of a blade tip weight, loss of a blade, and subsequent loss of control of the helicopter.

DATES: This AD becomes effective on April 24, 2009.

The incorporation by reference of certain publications is approved by the Director of the Federal Register as of April 24, 2009.

We must receive comments on this AD by June 8, 2009.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Bell Helicopter Textron Canada, 12,800 Rue de l'Avenir, Mirabel, Quebec J7J1R4, telephone (450) 437-2862 or (800) 363-8023, fax (450) 433-0272, or at http://www.bellcustomer.com/files/.

Examining the Docket: You may examine the AD docket on the Internet at http://www.regulations.gov or in person at the Docket Operations office between 9 a.m. and 5 p.m., Monday through Friday, except Federal holidays. The AD docket contains this AD, any comments received, and other information. The street address for the Docket Operations office (telephone (800) 647-5527) is stated in the ADDRESSES section of this AD. Comments will be available in the AD docket shortly after receipt.

FOR FURTHER INFORMATION CONTACT: Sharon Miles, Aviation Safety Engineer, FAA, Rotorcraft Directorate, Regulations and Policy Group, Fort Worth, Texas 76193-0111, telephone (817) 222-5122, fax (817) 222-5961.

SUPPLEMENTARY INFORMATION:

Discussion

On October 31, 2007, the FAA issued AD 2007-19-52, Amendment 39-15264 (72 FR 65221, November 20, 2007), to publish Emergency AD 2007-19-52, which made the AD effective to all persons except those to whom it was made immediately effective on September 14, 2007. That AD requires, before further flight, removing and replacing each affected blade with an airworthy blade. That action was prompted by three reports of blade tip weights being slung from the blades during flights, causing significant vibration.

Since issuing that AD, BHTC has revised the ASBs based on revisions to the RBI documents that are attached to the ASBs to add blade serial numbers to the applicability. Also, the ASBs have been revised to add clarification to the applicability by adding specific part number dash numbers.

Transport Canada, which is the aviation authority for Canada, has issued Transport Canada AD No. CF-2007-21, dated September 13, 2007, to correct an unsafe condition for the BHTC Model 206A, 206B, 206L, 206L-1, 206L-3, 206L-4, 222, 222B, 222U, 230, 407, 427, and 430 helicopters. The MCAI states that there have been three reports of blade tip weights departing from the blade during flight. The actions are intended to prevent loss of a blade tip weight, loss of a blade, and subsequent loss of control of the helicopter. Although the BHTC ASBs have been revised since they were referenced in our AD 2007-19-52, the Transport Canada AD has not been revised.

You may obtain further information by examining the MCAI and any related service information in the AD docket.

Related Service Information

BHTC has issued the following:

• ASB No. 206-07-116, Revision A, dated September 19, 2007, for BHTC Model 206 A/B series helicopters;

• ASB No. 206L-07-148, Revision A, dated September 19, 2007, for BHTC Model 206L series helicopters;

• ASB No. 222-07-106, Revision C, dated September 20, 2007, for BHTC Model 222 and 222B helicopters;

• ASB No. 222U-07-77, Revision C, dated September 20, 2007, for BHTC Model 222U helicopters;

• ASB No. 230-07-38, Revision C, dated September 20, 2007, for BHTC Model 230 helicopters;

• ASB No. 407-07-81, Revision A, dated September 19, 2007, for BHTC Model 407 helicopters;

• ASB No. 427-07-18, Revision A, dated September 19, 2007, for BHTC Model 427 helicopters; and

• ASB No. 430-07-41, Revision C, dated September 20, 2007, for BHTC Model 430 helicopters.

All of the ASBs contain a letter from RBI indicating that certain blades processed by RBI may be missing the adhesive applied to the tip weight screw during the weight and balance process. Since the issuance of AD 2007-19-52, some ASBs have been revised to include additional blade part numbers and serial numbers that require inspection, as well as to clarify the part number applicability by adding specific part number “dash numbers.” Additionally, the ASBs' revisions specify marking the blade with an “L” once inspection determines that the blade is airworthy. The actions described in the MCAI are intended to correct the same unsafe condition as that identified in the service information.

FAA's Evaluation and Unsafe Condition Determination

These helicopters have been approved by the aviation authority of Canada and are approved for operation in the United States. Pursuant to our bilateral agreement with Canada, they have notified us of the unsafe condition described in the MCAI. We are issuing this AD because we evaluated all information provided by Transport Canada and determined the unsafe condition exists and is likely to exist or develop on other helicopters of these same type designs.

Differences Between This AD and the MCAI

The actions required by this AD only apply to those blades listed in the RBI document that is attached to the ASBs listed in paragraph (c). The MCAI allows use of those ASBs, or “later revisions approved by Chief, Continuing Airworthiness, Transport Canada.”

Costs of Compliance

We estimate that this AD will affect about 3,741 helicopters of U.S. registry. We also estimate that it will take about 2 work-hours per helicopter to determine if an affected blade is installed. The average labor rate is $80 per work-hour. The ASB contains a warranty statement that owners or operators of BHTC helicopters who comply with the instructions in the ASB will be eligible to return defective blades identified by serial number in the compliance section to their nearest RBI facility for inspection and repair at no cost. Based on these figures, we estimate the total cost impact of the AD on U.S. operators to be $598,560, assuming all shipping, inspection, and repair costs are paid by RBI or BHTC.

FAA's Determination of the Effective Date

An unsafe condition exists that requires the immediate adoption of this AD. We find that the risk to the flying public justifies waiving notice and comment prior to adoption of this rule because loss of a blade tip weight during flight can adversely affect the controllability and structural integrity of the helicopter. Also, determining if an affected blade is installed and replacing any affected blade before further flight is required. Therefore, we have determined that notice and opportunity for public comment before issuing this AD are impracticable and that good cause exists for making this amendment effective in fewer than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2009-0301; Directorate Identifier 2008-SW-69-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15264 (72 FR 65221, November 20, 2007), and adding the following new AD:

2009-08-03 Bell Helicopter Textron Canada Limited: Amendment 39-15876. Docket No. FAA-2009-0301; Directorate Identifier 2008-SW-69-AD.

Effective Date

(a) This airworthiness directive (AD) becomes effective on April 24, 2009.

Other Affected ADs

(b) Supersedes AD 2007-19-52, Amendment 39-15264, Docket No. FAA-2007-0179, Directorate Identifier 2007-SW-36-AD (72 FR 65221, November 20, 2007).

Applicability

(c) This AD applies to Model 206A, 206B, 206L, 206L-1, 206L-3, 206L-4, 222, 222B, 222U, 230, 407, 427, and 430 helicopters, with a tail rotor blade (blade) installed that has a part number and serial number which is listed in the Rotor Blades, Inc. (RBI) document attached to the following Bell Helicopter Textron Alert Service Bulletins (ASBs), certificated in any category:

ASB No. | Revision | Date | Helicopter model
206-07-116 | A | September 19, 2007 | 206A and 206B.
206L-07-148 | A | September 19, 2007 | 206L, L-1, L-3, and L-4.
222-07-106 | C | September 20, 2007 | 222 and 222B.
222U-07-77 | C | September 20, 2007 | 222U.
230-07-38 | C | September 20, 2007 | 230.
407-07-81 | A | September 19, 2007 | 407.
427-07-18 | A | September 19, 2007 | 427.
430-07-41 | C | September 20, 2007 | 430.

Reason

(d) The mandatory continuing airworthiness information (MCAI) states that there have been three reports of blade tip weights departing from the blade during flight. This AD corrects part numbers and serial numbers of blades, and adds additional blades to the previous AD listing, based on revised ASBs issued by Bell Helicopter Textron Canada Limited. The actions required by this AD are intended to prevent loss of a blade tip weight, loss of a blade, and subsequent loss of control of the helicopter.

Actions and Compliance

(e) Before further flight, unless already accomplished, replace any affected blade with an airworthy blade. An airworthy blade is one that has a part number and a serial number that is not listed in the RBI document that is attached to each ASB listed in the Applicability section of this AD.

Differences Between This AD and the MCAI AD

(f) The actions required by this AD only apply to those blades listed in the RBI document that is attached to the ASBs listed in paragraph (c). The MCAI allows use of those ASBs, or “later revisions approved by Chief, Continuing Airworthiness, Transport Canada.”

Other Information

(g) Alternative Methods of Compliance (AMOCs): The Manager, Safety Management Group, FAA, ATTN: Sharon Miles, Aviation Safety Engineer, FAA, Rotorcraft Directorate, Regulations and Policy Group, 2601 Meacham Blvd., Fort Worth, Texas 76193-0111, telephone (817) 222-5122, fax (817) 222-5961, has the authority to approve AMOCs for this AD, if requested using the procedures found in 14 CFR 39.19.

Air Transport Association of America (ATA) Tracking Code

(h) ATA Code 6410: Tail Rotor Blades.

Material Incorporated by Reference

(i) You must use the following Bell Helicopter Textron Alert Service Bulletin for your model helicopter to determine which blades are subject to these AD actions:

ASB No. | Revision | Date | Helicopter model
206-07-116 | A | September 19, 2007 | 206A and 206B.
206L-07-148 | A | September 19, 2007 | 206L, L-1, L-3, and L-4.
222-07-106 | C | September 20, 2007 | 222 and 222B.
222U-07-77 | C | September 20, 2007 | 222U.
230-07-38 | C | September 20, 2007 | 230.
407-07-81 | A | September 19, 2007 | 407.
427-07-18 | A | September 19, 2007 | 427.
430-07-41 | C | September 20, 2007 | 430.

(1) The Director of the Federal Register approved the incorporation by reference of this service information under 5 U.S.C. 552(a) and 1 CFR part 51.

(2) For service information identified in this AD, contact Bell Helicopter Textron Canada, 12,800 Rue de l'Avenir, Mirabel, Quebec J7J1R4, telephone (450) 437-2862 or (800) 363-8023, fax (450) 433-0272, or at http://www.bellcustomer.com/files/.

(3) You may review copies at the FAA, Office of the Regional Counsel, Southwest Region, 2601 Meacham Blvd., 76193-0111, or at the National Archives and Records Administration (NARA). For information on the availability of this material at NARA, call (202) 741-6030, or e-mail to: http://www.archives.gov/federal-register/cfr/ibr-locations.html.

Issued in Fort Worth, Texas on March 26, 2009.
Mark R. Schilling,
Acting Manager, Rotorcraft Directorate, Aircraft Certification Service.

[FR Doc. E9-7783 Filed 4-8-09; 8:45 am]

BILLING CODE 4910-13-P